COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) to the Procurement List that were furnished by nonprofit agencies employing persons who are blind or have other severe disabilities.

DATES: Date deleted from the Procurement List: May 26, 2024.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On March 22, 2024 (89 FR 20456), the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7910-00-685-3910—Pad, Machine, Polishing, Floor, 18″ × 1/4″

Authorized Source of Supply: Beacon Lighthouse, Inc., Wichita Falls, TX

Contracting Activity: GSA/FSS GREATER SOUTHWEST ACQUISITI, FORT WORTH, TX

Service(s)

Service Type: Embroidery Service

Mandatory for: Embroidery of Urban Name Tapes: U.S. Marine Corps, Arlington, VA

Authorized Source of Supply: LIONS INDUSTRIES FOR THE BLIND, INC, Kinston, NC

Contracting Activity: DEPT OF THE ARMY, W40M RHCO-ATLANTIC USAHCA

Service Type: Management of State Dept High Threat Division Kit

Mandatory for: Department of State, High Threat Division, 2216 Gallows Road, Dunn Loring, VA

Authorized Source of Supply: Virginia Industries for the Blind, Charlottesville, VA

Contracting Activity: STATE, DEPARTMENT OF, ACQUISITIONS—AQM MOMENTUM

Michael R. Jurkowski,
Director, Business Operations.

[FR Doc. 2024-09004 Filed 4-25-24; 8:45 am]

BILLING CODE 6353-01-P